DEPARTMENT OF LABOR

Mine Safety and Health Administration

30 CFR Parts 70, 72, 75, and 90

RIN 1219-AB14

Verification of Underground Coal Mine Operators' Dust Control Plans and Compliance Sampling for Respirable Dust

AGENCY: Mine Safety and Health Administration (MSHA), Labor.

ACTION: Extension of comment periods.

SUMMARY: We are extending the period for public and post-hearing comment on the proposed rule addressing Verification of Underground Coal Mine Operators' Dust Control Plans and Compliance Sampling for Respirable Dust (Plan Verification), published in the Federal Register on March 6, 2003 and on March 17, 2003, respectively.

DATES: We must receive your comments by July 3, 2003.

ADDRESSES: You may use mail, facsimile (fax), or electronic mail to send us your comments. Clearly identify them as comments and send them (1) by mail to MSHA, Office of Standards, Regulations, and Variances, 1100 Wilson Blvd., Room 2313, Arlington, Virginia 22209-3939; (2) by fax to (202) 693-9441; or (3) by electronic mail to: comments@msha.gov.

FOR FURTHER INFORMATION CONTACT: Marvin W. Nichols, Jr., Director, Office of Standards, Regulations and Variances, MSHA; phone: (202) 693-9440; facsimile: (202) 693-9441; e-mail: nichols-marvin@msha.gov.

SUPPLEMENTARY INFORMATION:

I. Background

On March 6, 2003, (68 FR 10784), MSHA published a proposed rule in the Federal Register that would require mine operators to verify through sampling the effectiveness of the dust control parameters for each mechanized mining unit (MMU) specified in the approved mine ventilation plan. For samples to be valid, the operator would be required to sample on a production shift during which the amount of material produced by an MMU is at or above the verification production level using only the dust control parameters listed in the ventilation plan.

The use of approved powered, air-purifying respirators (PAPRs) and/or verifiable administrative controls would be allowed as a supplemental means of compliance when MSHA determines that all feasible engineering or environmental controls are being used. The proposed rule would also rescind operator compliance sampling in underground coal mines. The use of a personal, continuous dust monitor (PCDM), once developed and approved, could be used by an operator in conjunction with the dust control parameters specified in the mine ventilation plan. The proposed rule would significantly improve miners' health protection by limiting the exposure of individual miners to respirable coal mine dust.

II. Extension of Comment Periods

The comment periods for the Plan Verification rule were scheduled to close on June 4, 2003 (68 FR 10784, 68 FR 12641). However, in response to requests from the public for additional time to prepare their comments, the comment periods have been extended 30 days until July 3, 2003. All comments must be submitted to MSHA by this date.

Dated: May 9, 2003.
Dave D. Lauriski,
Assistant Secretary of Labor for Mine Safety and Health.

[FR Doc. 03-13528 Filed 5-28-03; 8:45 am]

BILLING CODE 4510-43-P